DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 23, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on April 3, 2018.
Donald Burger,
Chief, General Approvals and Permits Branch.

Application No. | Applicant | Regulation(s) affected | Nature of the special permits thereof
SPECIAL PERMITS DATA
20618-N | National Aeronautics and Space Administration | 172.400, 172.300, 173.1 | To authorize the transportation in commerce of explosives contained in spacecraft by motor vehicle. (mode 1)
20619-N | Globaltech Environmental Corp |  | To authorize the manufacture, mark, sale, and use of packagings, intended to contain batteries of mixed chemistries, as not subject to certain hazard communication requirements. (mode 1)
20620-N | Southern States, LLC | 173.302(a) | To authorize the manufacture, mark, sale, and use of non-DOT specification pressure receptacles containing sulfur hexafluoride. (mode 1, 2, 3, 4)
20621-N | Sigma-Aldrich International GM | 173.224(c), 173.225(b), 173.56(b) | To authorize the transportation in commerce of certain quantities of energetic materials that have not previously been classified. (mode 1, 2, 3, 4, 5)
20622-N | Apple Inc | 172.101(j), 173.185(a) | To authorize the transportation in commerce of low production lithium ion batteries exceeding 35 kg net weight by cargo-only aircraft. (mode 4)
20623-N | Praxair Distribution, Inc | 172.203(a), 180.205(f), 180.205(g), 180.209(a), 180.209(b), 180.209(f), 180.213(f) | To authorize the transportation in commerce of DOT 3AA cylinders that have been requalified using ultrasonic examination every 15 years in lieu of internal inspection and hydrostatic testing every 5 years. (mode 1, 2, 3, 4, 5)
20624-N | Jaguar Land Rover North America, LLC | 172.101(j) | To authorize the transportation in commerce of lithium ion batteries in excess of 35 kg by cargo-only aircraft. (mode 4)
20625-N | LG Chem | 172.101(j) | To authorize the transportation in commerce of lithium batteries exceeding 35 kg by cargo-only aircraft. (mode 4)
20626-N | Aerojet Rocketdyne, Inc | 172.320(a), 173.51(a), 173.56(b) | To authorize the transportation in commerce of a one-time shipment of Class 1 materials that have not previously been approved. (mode 1)
20628-N | Stanley Black & Decker, Inc | 172.704, 172.800, 172.200 | To authorize the transportation in commerce of lithium batteries without being subject to shipping papers, training and emergency response information requirements. (mode 1)
20629-N | Spaceflight, Inc | 173.185(e)(3)(i), 173.185(e)(3)(ii) | To authorize the transportation in commerce of lithium batteries in alternative packaging. (mode 1)
20630-N | Machine & Welding Supply Company | 180.209(a), 180.209(b), 180.209(b)(1)(iv) | To authorize the transportation in commerce of certain hazardous materials in DOT Specification 3AL cylinders manufactured from aluminum allow 6061-T6 that are requalified every ten years rather than every five years using 100% ultrasound examination. (modes 1, 2)
20631-N | Americase, LLC | 172.400, 172.200, 172.300, 173.185(f) | To authorize the transportation in commerce of more than one damaged/defective lithium battery in a single fiberboard outer packaging. (modes 1, 2, 3)
20632-N | Clear View Enterprise LLC | 177.834(h) | To authorize the discharge of certain hazardous materials for portable tanks and IBCs without unloading the packages from the vehicle. (mode 1)
20633-N | Spaceflight, Inc | 173.185(a) | To authorize the transportation in commerce of low production lithium ion batteries contained in equipment via cargo-only aircraft. (mode 4)

[FR Doc. 2018-08373 Filed 4-20-18; 8:45 am]

BILLING CODE 4909-60-P